DEPARTMENT OF TRANSPORTATION

Federal Aviation Administration

14 CFR Part 133

[Docket No. 1529; Amdt. No. 133-9A]

Rotorcraft External-Load Operations; Technical Amendment

AGENCY: Federal Aviation Administration, DOT.

ACTION: Final rule; technical amendment.

SUMMARY: The FAA is correcting two regulatory cross-references. The pertinent section was not amended to reflect changes that were implemented in the final rule dated November 7, 1986 (Doc. No. 24550, 51 FR 40692, 40708).

DATES: This action becomes effective on November 25, 2016.

FOR FURTHER INFORMATION CONTACT: For technical questions concerning this action, contact Raymond T. Plessinger, General Aviation and Commercial Divisions, AFS-820, Federal Aviation Administration, 800 Independence Avenue SW., Washington, DC 20591; telephone: (202) 267-1100; email: Raymond.Plessinger@faa.gov.

SUPPLEMENTARY INFORMATION:

Good Cause for Immediate Adoption Without Prior Notice

Section 553(b)(3)(B) of the Administrative Procedure Act (APA) (5 U.S.C. 551 et seq.) authorizes agencies to dispense with notice and comment procedures for rules when the agency for “good cause” finds that those procedures are “impracticable, unnecessary, or contrary to the public interest.” Under this section, an agency, upon finding good cause, may issue a final rule without seeking comment prior to the rulemaking.

Section 553(d)(3) of the Administrative Procedure Act requires that agencies publish a rule not less than 30 days before its effective date, except as otherwise provided by the agency for good cause found and published with the rule.

This document is correcting an error that is in 14 CFR part 133. This correction will not impose any additional restrictions on the persons affected by these regulations. Furthermore, any additional delay in making the regulations correct would be contrary to the public interest. Accordingly, the FAA finds that (i) public comment on these standards prior to promulgation is unnecessary, and (ii) good cause exists to make this rule effective in less than 30 days.

Background

On November 7, 1986, the FAA published a final rule (Doc. No. 24550, 51 FR 40692, 40708) that amended and updated the operations and maintenance requirements pertaining to rotorcraft and established a new Class D rotorcraft-load combination. The final rule created a new § 133.35, Carriage of persons. With the creation of § 133.35, the occupancy limitations cross-referenced in § 133.49(a) were moved from § 133.45(a) to § 133.35(a). The cross-reference in § 133.49(a) was not amended to reflect this change.

The final rule also amended § 133.45, Operating limitations, by removing paragraph (a). This resulted in paragraphs (b), (c), (d), and (e) to be redesignated as paragraphs (a), (b), (c), and (d), respectively. The cross-reference in § 133.49(b) was not amended to reflect these changes. In this final rule, the FAA failed to update the regulatory cross-references in § 133.49(a) and (b), based on the changes previously described. This technical amendment updates the cross-references in § 133.49(a) and (b), based on the 1986 final rule.

Technical Amendment

This technical amendment will correct the noted cross-references currently in § 133.49(a) and (b). Because this action results in no substantive change to part 133, we find good cause exists under 5 U.S.C. 553(d)(3) to make this technical amendment effective in less than 30 days and upon its publication in the Federal Register.

List of Subjects in 14 CFR Part 133

Aircraft, Aviation safety, Reporting and recordkeeping requirements.

The Amendment

In consideration of the foregoing, the Federal Aviation Administration amends chapter I of title 14, Code of Federal Regulations as follows:

PART 133—ROTORCRAFT EXTERNAL-LOAD OPERATIONS

1. The authority citation for part 133 continues to read as follows:

Authority: 49 U.S.C. 106(g), 40113, 44701-44702.

2. Revise § 133.49 to read as follows:

§ 133.49 Markings and placards.

The following markings and placards must be displayed conspicuously and must be such that they cannot be easily erased, disfigured, or obscured:

(a) A placard (displayed in the cockpit or cabin) stating the class of rotorcraft-load combination for which the rotorcraft has been approved and the occupancy limitation prescribed in § 133.35(a).

(b) A placard, marking, or instruction (displayed next to the external-load attaching means) stating the maximum external load prescribed as an operating limitation in § 133.45(b).

Issued under authority of 49 U.S.C. 106(g), 40113, 44701-44702 in Washington, DC, on November 16, 2016.
Dale Bouffiou,
Acting Director, Office of Rulemaking.

[FR Doc. 2016-28399 Filed 11-23-16; 8:45 am]

BILLING CODE 4910-13-P